DEPARTMENT OF THE INTERIOR

Notice of Availability for the Abbreviated Final General Management Plan Environmental Impact Statement for Pea Ridge National Military Park, AR

AGENCY: National Park Service, Interior.

SUMMARY: Pursuant to section 102(2)(C) of the National Environmental Policy Act of 1969, the National Park Service (NPS) announces the availability for the Abbreviated Final General Management Plan Environmental Impact Statement (GMP/EIS) for Pea Ridge National Military Park (Pea Ridge).

DATES: The final EIS will be made available for a 30-day period, following the publishing of the notice of availability in the Federal Register by the Environmental Protection Agency.

ADDRESSES: Copies of the final GMP/EIS will be available by request by writing to the Superintendent at Pea Ridge National Military Park, 15930 Highway 62, Garfield, Arkansas 72732. The document can be found on the Web site at: http://parkplanning.nps.gov/.

FOR FURTHER INFORMATION CONTACT: Superintendent, Pea Ridge National Military Park, 15930 Highway 62, Garfield, Arkansas 72732, telephone 417-732-2662.

SUPPLEMENTARY INFORMATION: The NPS prepared a draft GMP/EIS for Pea Ridge, pursuant to the National Environmental Policy At of 1969. This draft was made available for public review for 60 days (December 2005 to February 2006). Hard copy versions of the draft were distributed, and Pea Ridge made the draft EIS available on the Web, at the park, and in area libraries. A public presentation, attended by 25 participants, was held for the public to discuss and comment on the draft. The consensus of the public during the presentation was that the NPS would pursue the correct path for Pea Ridge by following Alternative 4, the preferred alternative. Comments from public agencies on the draft GMP/EIS will not require the NPS to add other alternatives, significantly alter existing alternatives, or make changes to the impact analysis of effects for any of the alternatives. Thus, an abbreviated format is used for the responses to comments in the final EIS, in compliance with the implementing regulations (40 CFR 1503.4(c) for the National Environmental Policy At, and the NPS Director's Order 12.

Dated: May 22, 2008
Ernest Quintana,
Regional Director, Midwest Region.

[FR Doc. 06-6314 Filed 7-18-06; 8:45 am]

BILLING CODE 4312-BX-M